ELECTION ASSISTANCE COMMISSION

Agency Information Collection Activities: Proposed Collection; Comment Request; Election Assistance Commission's Voting System Testing and Certification Program Manual, Version 1.0

AGENCY: U.S. Election Assistance Commission (EAC).

ACTION: Notice; comment request.

SUMMARY: As part of its continuing effort to reduce paperwork and respondent burden in accordance with the Paperwork Reduction Act of 1995, the U.S. Election Assistance Commission (EAC) invites the general public and other Federal agencies to take this opportunity to comment on EAC's request to renew an existing information collection, EAC's Voting System Testing and Certification Program Manual, Version 1.0. Comments are invited on: (a) Whether the proposed collection of information is necessary for the proper performance of the functions of the agency, including whether the information shall have practical utility; (b) the accuracy of the agency's estimate of the burden of the proposed information collection, including the validity of the methodology and assumptions used; (c) ways to enhance the quality, utility, and clarity of the information to be collected; and (d) ways to minimize the burden of the information collection on respondents. Comments submitted in response to this notice will be summarized and included in the request for approval of this information collection by the Office of Management and Budget; they also will become a matter of public record. This notice requests comments solely on the four criteria above. Note: This notice solicits comments on the currently-used Manual, Version 1.0 only. Due to lack of a quorum, EAC will postpone making changes to Version 1.0 of the Manual until such a time as a quorum is re-established. See Supplementary Information, below.

DATES: Written comments must be submitted on or before 11:59 p.m. EDT on June 5, 2014.

ADDRESSES: Comments and recommendations on the proposed information collection must be submitted in writing: (1) Electronically to jmyers@eac.gov; via mail to Mr. Brian Hancock, Director of Voting System Testing and Certification, U.S. Election Assistance Commission, 1335 East West Highway, Suite 4300, Silver Spring, MD 20910; or via fax to (202) 566-1392. An electronic copy of the manual, version 1.0, may be found on EAC's Web site at www.eac.gov/open/comment.aspx.

FOR FURTHER INFORMATION CONTACT: To request more information on this proposed information collection, please contact Mr. Brian Hancock, Director, Voting System Testing and Certification, Washington, DC, (202) 566-3100, Fax: (202) 566-1392.

SUPPLEMENTARY INFORMATION:

Background

In this notice, EAC seeks comments on the paperwork burdens contained in the current version of the Voting System Testing and Certification Program Manual, Version 1.0 OMB Control Number 3265-0004 only. Version 1.0 is the original version of the Manual without changes or updates.

Current Information Collection Request, Version 1.0

Title: Voting System Testing and Certification Program, Version 1.0.

OMB Number: 3265-0004.

Type of Review: Renewal.

Needs and Uses: Section 231(a) of the Help America Vote Act of 2002 (HAVA), 42 U.S.C. 15371(a), requires EAC to “provide for the testing, certification, decertification, and recertification of voting system hardware and software by accredited laboratories.” To fulfill this mandate, EAC has developed and implemented the Voting System Testing and Certification Program Manual, Version 1.0. This version is currently in use under OMB Control Number 3265-0004. EAC had hoped to finalize a revised Manual prior to the expiration of the current manual's control number. However, due to lack of a quorum, EAC will continue using the existing manual, version 1.0, necessitating this action. Although participation in the program in voluntary, adherence to the program's procedural requirements is mandatory for participants.

Affected Public: Voting system manufacturers.

Estimated Number of Respondents: 8.

Total Annual Responses: 8.

Estimated Total Annual Burden Hours: 200 hours.

Alice Miller,
Acting Executive Director, U.S. Election Assistance Commission.

[FR Doc. 2014-10344 Filed 5-5-14; 8:45 am]

BILLING CODE 6820-KF-P